DEPARTMENT OF THE INTERIOR

Bureau of Land Management

[UT-910-04-1040-PH-24-1A]

Notice of Resource Advisory Council Meeting

AGENCY: Bureau of Land Management, Department of Interior.

ACTION: Notice of Utah Resource Advisory Council (RAC) meeting.

SUMMARY: In accordance with the Federal Land Policy and Management Act (FLPMA) and the Federal Advisory Committee Act of 1972 (FACA), the U.S. Department of the Interior, Bureau of Land Management (BLM) Utah Resource Advisory Council (RAC) will meet as indicated below.

DATES: The Utah Resource Advisory Council will meet June 9-10, 2004, in Moab, Utah. A field tour of the Sand Flats Recreation Area is scheduled for June 9 beginning at 8 a.m. and concluding at 5 p.m. On June 10, the RAC will meet at the LaQuinta Inn, 815 South Main, Moab, Utah, from 8 a.m. until noon.

FOR FURTHER INFORMATION: Contact Sherry Foot, Special Programs Coordinator, Utah State Office, Bureau of Land Management, 324 South State Street, Salt Lake City, Utah, 84111; phone (801) 539-4195.

SUPPLEMENTARY INFORMATION: On June 9, the Council will be taking a field tour, looking at OHV issues and impacts related to unofficial events and dispersed camping. On June 10, the RAC will discuss the OHV Subgroup's report, the Moab Field Office's route designation process, and updates on issues within BLM Utah. A public comment period, where members of the public may address the Council, is scheduled from 10:45 a.m. until 11:15 a.m. Written comments may be sent to the Bureau of Land Management address listed above.

All meetings are open to the public; however, transportation, lodging, and meals are the responsibility of the participating public.

Dated: April 27, 2004.
Sally Wisely,
State Director.

[FR Doc. 04-9944 Filed 4-30-04; 8:45 am]

BILLING CODE 4310-$$-P